DEPARTMENT OF LABOR

Employment and Training Administration

Amended Certification Regarding Eligibility To Apply for Worker Adjustment Assistance and Alternative Trade Adjustment Assistance

TA-W-60,252

Shogren Hosiery Manufacturing Co., Inc. Including Leased Workers of Corestaff, Concord, North Carolina

Including Employees of Shogren Hosiery Manufacturing Co., Inc., Concord, North Carolina Located at the Following Locations

TA-W-60,252A; Plano, Texas

TA-W-60,252B; Freehold, New Jersey

TA-W-60,252C; Hope Sound, Florida

TA-W-60,252D; Boca Raton, Florida

TA-W-60,252E; Bentonville, Arkansas

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on November 16, 2006, applicable to workers of Shogren Hosiery Manufacturing Co., Inc., including leased workers of Corestaff, Concord, North Carolina. The notice was published soon in the Federal Register on November 28, 2006 (71 FR 68840).

At the request of a company official, the Department reviewed the certification for workers of the subject firm.

New information shows that worker separations have occurred involving employees of the Concord, North Carolina facility of Shogren Hosiery Manufacturing Co., Inc. working out of Plano, Texas, Freehold, New Jersey, Hope Sound, Florida, Boca Raton, Florida and Bentonville, Arkansas. These employees provided customer liaison and sales functions in support of the production of women's hosiery and tights produced at the Concord, North Carolina location of the subject firm.

Based on these findings, the Department is amending this certification to include employees of the Concord, North Carolina facility of Shogren Hosiery Manufacturing Co., Inc. working out of the above mentioned locations.

The intent of the Department's certification is to include all workers of Shogren Hosiery Manufacturing Co., Inc., Concord, North Carolina who were adversely affected by increased imports.

The amended notice applicable to TA-W-60,252 is hereby issued as follows:

“All workers of Shogren Hosiery Manufacturing Co., Inc., including leased workers of Corestaff, Concord, North Carolina (TA-W-60,252), including employees of Shogren Hosiery Manufacturing Co., Inc., Concord, North Carolina located in Plano, Texas (TA-W-60,252A), Freehold, New Jersey (TA-W-60,252B), Hope Sound, Florida (TA-W-60,252C), Boca Raton, Florida (TA-W-60,252D) and Bentonville, Arkansas (TA-W-60,252E), who became totally or partially separated from employment on or after October 17, 2005, through November 16, 2008, are eligible to apply for adjustment assistance under Section 223 of the Trade Act of 1974, and are also eligible to apply for alternative trade adjustment assistance under Section 246 of the Trade Act of 1974.”

Signed at Washington, DC, this 14th day of December 2007.
Elliott S. Kushner,
Certifying Officer, Division of Trade Adjustment Assistance.

[FR Doc. E7-25363 Filed 12-28-07; 8:45 am]

BILLING CODE 4510-FN-P